ENVIRONMENTAL PROTECTION AGENCY

[EPA-HQ-OPP-2019-0091; FRL-9993-24]

Product Cancellation Order for Certain Pesticide Registrations

AGENCY: Environmental Protection Agency (EPA).

ACTION: Notice.

SUMMARY: This notice announces EPA's order for the cancellations, voluntarily requested by the registrants and accepted by the Agency, of the products listed in Table 1 of Unit II, pursuant to the Federal Insecticide, Fungicide, and Rodenticide Act (FIFRA).

This cancellation order follows a March 25, 2019 Federal Register Notice of Receipt of Requests from the registrants listed in Table 2 of Unit II, to voluntarily cancel these product registrations. In the March 25, 2019 notice, EPA indicated that it would issue an order implementing the cancellations, unless the Agency received substantive comments within the 30-day comment period that would merit its further review of these requests, or unless the registrants withdrew their requests. The Agency received two anonymous public comments on the notice but none merited its further review of the requests.

Further, the registrants did not withdraw their requests. Accordingly, EPA hereby issues in this notice a cancellation order granting the requested cancellations. Any distribution, sale, or use of the products subject to this cancellation order is permitted only in accordance with the terms of this order, including any existing stocks provisions.

DATES: The cancellations are effective May 20, 2019.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2019-0091, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellation, as requested by registrants, of products registered under FIFRA section 3 (7 U.S.C. 136a). These registrations are listed in sequence by registration number in Table 1 of this unit.

Table 1—Product Cancellations
Registration No. | Company No. | Product name | Active ingredients
100-1341 | 100 | Meridian 0.20G | Thiamethoxam.
100-1346 | 100 | Meridian 0.14G | Thiamethoxam.
100-1399 | 100 | Avicta Complete Corn 500 | Azoxystrobin; Metalaxyl-M; Fludioxonil; Thiabendazole; Abamectin & Thiamethoxam.
100-1426 | 100 | THX_MXM_FDL_TBZ FS | Thiamethoxam; Metalaxyl-M; Fludioxonil & Thiabendazole.
100-1449 | 100 | Adage Deluxe | Thiamethoxam; Metalaxyl-M; Fludioxonil & Azoxystrobin.
100-1450 | 100 | Adage Premier | Thiamethoxam; Metalaxyl-M; Fludioxonil; Azoxystrobin & Thiabendazole.
264-1125 | 264 | Emesto Quantum | Clothianidin & Penflufen.
59639-164 | 59639 | V-10170 0.25 G GL Insecticide | Clothianidin.
59639-176 | 59639 | Inovate Seed Protectant | Clothianidin; Metalaxyl & Ipconazole.
59639-187 | 59639 | Inovate Neutral Seed Protectant | Clothianidin; Metalaxyl & Ipconazole.
59639-214 | 59639 | Aloft GC G Insecticide | Bifenthrin & Clothianidin.
72155-95 | 72155 | Flower, Rose & Shrub Care III | Clothianidin & Imidacloprid.

Table 2 of this unit includes the names and addresses of record for all registrants of the products in Table 1 of this unit, in sequence by EPA company number. This number corresponds to the first part of the EPA registration numbers of the products listed in Table 1 of this unit.

Table 2—Registrants of Cancelled Products
EPA company No. | Company name and address
100 | Syngenta Crop Protection, LLC, P.O. Box 18300, Greensboro, NC 27419-8300.
264 | Bayer CropScience, LP 2 T.W. Alexander Drive, P.O. Box 12014, Research Triangle Park, NC 27709.
59639 | Valent U.S.A., LLC, 1600 Riviera Avenue, Suite 200, Walnut Creek, CA 94596-8025.
72155 | Bayer Advanced, A Business Unit of Bayer CropScience, LP 2 T.W. Alexander Drive, P.O. Box 12014, Research Triangle Park, NC 27709.

III. Summary of Public Comments Received and Agency Response to Comments

The Agency received two anonymous public comments on the notice, but didn't merit its further review of the requests. For this reason, the Agency does not believe that the comments submitted during the comment period merit further review or a denial of the requests for voluntary cancellation.

IV. Cancellation Order

Pursuant to FIFRA section 6(f) (7 U.S.C. 136d(f)), EPA hereby approves the requested cancellations of the registrations identified in Table 1 of Unit II. Accordingly, the Agency hereby orders that the product registrations identified in Table 1 of Unit II, are canceled. The effective date of the cancellations that are the subject of this notice is May 20, 2019. Any distribution, sale, or use of existing stocks of the products identified in Table 1 of Unit II, in a manner inconsistent with any of the provisions for disposition of existing stocks set forth in Unit VI, will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of March 25, 2019 (84 FR 11087) (FRL-9990-87). The comment period closed on April 24, 2019.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II, until May 20, 2020, which is 1 year after the publication of the Cancellation Order in the Federal Register. Thereafter, the registrants are prohibited from selling or distributing products listed in Table 1, except for export in accordance with FIFRA section 17 (7 U.S.C. 136o), or proper disposal. Persons other than the registrants may sell, distribute, or use existing stocks of products listed in Table 1 of Unit II, until existing stocks are exhausted, provided that such sale, distribution, or use is consistent with the terms of the previously approved labeling on, or that accompanied, the canceled products.

Authority: 7 U.S.C. 136 et seq.

Dated: May 8, 2019.
Delores Barber,
Director, Information Technology and Resources Management Division, Office of Pesticide Programs.

[FR Doc. 2019-10447 Filed 5-17-19; 8:45 am]

BILLING CODE 6560-50-P